DEPARTMENT OF LABOR

Office of the Secretary

Agency Information Collection Activities; Submission for OMB Review; Comment Request; Disclosures to Workers Under the Migrant and Seasonal Agricultural Worker Protection Act

ACTION: Notice.

SUMMARY: The Department of Labor (DOL) is submitting the Wage and Hour Division (WHD) sponsored information collection request (ICR) titled, “Disclosures to Workers under the Migrant and Seasonal Agricultural Worker Protection Act,” to the Office of Management and Budget (OMB) for review and approval for continued use, as revised, in accordance with the Paperwork Reduction Act of 1995 (Pub. L. 104-13, 44 U.S.C. chapter 35).

DATES: Submit comments on or before March 28, 2011.

ADDRESSES: A copy of this ICR, with applicable supporting documentation; including a description of the likely respondents, proposed frequency of response, and estimated total burden may be obtained from the RegInfo.gov Web site, http://www.reginfo.gov/public/do/PRAMain, or by contacting Michel Smyth by telephone at 202-693-4129 (this is not a toll-free number) or sending an e-mail to DOL_PRA_PUBLIC@dol.gov.

Submit comments about this request to the Office of Information and Regulatory Affairs, Attn: OMB Desk Officer for the U.S. Department of Labor, Wage and Hour Division (WHD), Office of Management and Budget, Room 10235, Washington, DC 20503, Telephone: 202-395-6929/Fax: 202-395-6881 (these are not toll-free numbers), e-mail: OIRA_submission@omb.eop.gov.

FOR FURTHER INFORMATION: Contact Michel Smyth by telephone at 202-693-4129 (this is not a toll-free number) or by e-mail at DOL_PRA_PUBLIC@dol.gov.

SUPPLEMENTARY INFORMATION: This information collection is for the Migrant and Seasonal Agricultural Worker Protection Act (MSPA) required disclosure of employment terms and conditions, wage statements, and housing terms and conditions that agricultural employers and associations and farm labor contractors make to migrant/seasonal agricultural workers. This request is categorized as a revision, because the DOL is making a discretionary change to obtain approval for all of the MSPA worker disclosures under one OMB Control Number. Specifically, in order to improve its management of the information collections, the DOL seeks to combine Control Numbers 1235-0002, 1235-0009, and 1235-0010. The DOL is not otherwise changing the information to be disclosed and retained.

These information collections are subject to the PRA. A Federal agency generally cannot conduct or sponsor a collection of information, and the public is generally not required to respond to an information collection, unless it is currently approved by the OMB under the PRA and displays the OMB Control Number. In addition, notwithstanding any other provisions of law, no person shall generally be subject to penalty for failing to comply with a collection of information if the collection of information does not display a currently valid OMB control number. See 5 CFR 1320.5(a) and 1320.6. The current OMB approval for Control Number 1235-0002 is scheduled to expire on February 28, 2011; however, it should be noted that information collections submitted to the OMB receive a month-to-month extension while they undergo review. Control Number 1235-0009 expires June 30, 2012, and 1235-0010 expires July 31, 2011. The DOL will seek to cancel these latter Control Numbers upon OMB approval of the current request to combine the information collection authorizations. For additional information, see the related notice published in the Federal Register on September 20, 2010 (75 FR 57296).

Interested parties are encouraged to send comments to the OMB, Office of Information and Regulatory Affairs at the address shown in the ADDRESSES section within 30 days of publication of this notice in the Federal Register. In order to ensure appropriate consideration, comments should reference OMB Control Number 1235-0002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Wage and Hour Division (WHD).

Title of Collection: Disclosures to Workers under the Migrant and Seasonal Agricultural Worker Protection Act.

OMB Control Number: 1235-0002 (as proposed to be merged with 1235-0009 and 1235-0010).

Affected Public: Private sector—farms.

Total Estimated Number of Respondents: 206,891.

Total Estimated Number of Responses: 84,206,505.

Total Estimated Annual Burden Hours: 1,417,436.

Total Estimated Annual Costs Burden: $3,368,260.

Dated: February 16, 2011.
Michel Smyth,
Departmental Clearance Officer.

[FR Doc. 2011-4057 Filed 2-23-11; 8:45 am]

BILLING CODE 4510-27-P